DEPARTMENT OF COMMERCE

National Oceanic and Atmospheric Administration

Coastal Zone Management: Federal Consistency Appeal by John T. Keegan From an Objection by the Puerto Rico Planning Board

AGENCY: National Oceanic and Atmospheric Administration, Commerce.

ACTION: Notice of appeal and request for comments.

By letter dated September 6, 2001, Aram V. Terchunian filed with the Secretary of Commerce (Secretary) a notice of appeal on behalf of Peter and Nancy Fenner (Appellant), pursuant to section 307(c)(3)(A) of the Coastal Zone Management Act of 1972 (CZMA), as amended, 16 U.S.C. 1451 et seq., and the Department of Commerce's implementing regulations, 15 CFR part 930, subpart H. The appeal is taken from an objection by the New York Department of State (State) to the Appellant's consistency certification for a U.S. Army Corps of Engineers' permit to build a catwalk and dock at West Hampton Dunes.

The CZMA provides that a timely objection by a state precludes any federal agency from issuing licenses or permits for the activity unless the Secretary finds that the activity is either “consistent with the objectives” of the CZMA (Ground I) or “necessary in the interest of national security” (Ground II). Section 307(c)(3)(A). To make such a determination, the Secretary must find that the proposed project satisfies the requirements of 15 CFR 930.121 or 930.122.

The Appellant requests that the Secretary override the State's consistency objections based on either Ground I or Ground II. To make the determination that the proposed activity is “consistent with the objectives” of the CZMA, the Secretary must find that: (1) The activity furthers the national interest as articulated in §§ 302 or 303 of the CZMA, in a significant or substantial manner, (2) the national interest furthered by the activity outweighs the activity's adverse coastal effects, when those effects are considered separately or cumulatively, and (3) there is no reasonable alternative available which would permit the activity to be conducted in a manner consistent with the enforceable policies of the management program. See 15 CFR 930.121.

Public comments are invited on the findings that the Secretary must make as set forth in the regulations at 15 CFR 930.121. Comments are due within 30 days of the publication of this notice and should be sent to Ms. Suzanne Bass, Attorney-Adviser, Office of the Assistant General Counsel for Ocean Services, National Oceanic and Atmospheric Administration, U.S. Department of Commerce, 1305 East-West Highway, Room 6111, Silver Spring, MD 20910. Copies of comments will also be forwarded to the Appellant and the State.

All nonconfidential documents submitted in this appeal are available for public inspection during business hours at the offices of the State and the Office of the Assistant General Counsel for Ocean Services.

FOR FURTHER INFORMATION CONTACT: Ms. Suzanne Bass, Attorney-Adviser, Office of the Assistant General Counsel for Ocean Services, National Oceanic and Atmospheric Administration, U.S. Department of Commerce, 1305 East-West Highway, Room 6111, Silver Spring, MD 20910, 301-713-2967.

[Federal Domestic Assistance Catalog No. 11.419 Coastal Zone Management Program Assistance]
Dated: August 4, 2002.
James R. Walpole,
General Counsel.

[FR Doc. 02-21453 Filed 8-21-02; 8:45 am]

BILLING CODE 3510-08-M